ENVIRONMENTAL PROTECTION AGENCY

40 CFR Part 52

[IL207-2; FRL-7228-4]

Approval and Promulgation of Implementation Plans; Illinois; Withdrawal of Direct Final Rule

AGENCY: Environmental Protection Agency (EPA).

ACTION: Withdrawal of direct final rule.

SUMMARY: Due to an adverse comment, the EPA is withdrawing the direct final rule approving new emissions tests averaging provisions for the State of Illinois. In the direct final rule published on April 15, 2002 (67 FR 18115), EPA stated that if EPA receives adverse comment by May 15, 2002, the rule would be withdrawn and not take effect. EPA subsequently received adverse comment. EPA will address the comment received in a subsequent final action based upon the proposed action also published on April 15, 2002 (67 FR 18149). EPA will not institute a second comment period on this action.

DATES: The direct final rule is withdrawn as of June 11, 2002.

FOR FURTHER INFORMATION CONTACT: David Pohlman, Environmental Scientist, Regulation Development Section, Air Programs Branch (AR-18J), U.S. Environmental Protection Agency, Region 5, 77 West Jackson Boulevard, Chicago, Illinois 60604, (312) 886-3299.

List of Subjects in 40 CFR Part 52

Environmental protection, Air pollution control, Carbon monoxide, Particulate matter, Incorporation by reference, Intergovernmental relations, Lead, Nitrogen dioxide, Ozone, Recordkeeping and reporting requirements, Sulfur oxides, Volatile organic compounds.

Dated: May 30, 2002.
Bharat Mathur,
Acting Regional Administrator, Region 5.

Accordingly, the direct final rule adding 40 CFR 52.720(c)(164), published at 67 FR 18115, is withdrawn as of June 11, 2002.

[FR Doc. 02-14624 Filed 6-10-02; 8:45 am]

BILLING CODE 6560-50-P